DEPARTMENT OF THE INTERIOR

National Park Service

[NPS-NCR-NAMA-0411-7123; 3401-007-SZM]

Record of Decision on the Final Environmental Impact Statement for the National Mall Plan, National Mall and Memorial Parks, Washington, DC

AGENCY: National Park Service, Interior.

ACTION: Notice of Availability, Record of Decision on the Final Environmental Impact Statement for the National Mall Plan, National Mall and Memorial Parks, Washington, DC.

SUMMARY: Pursuant to the National Environmental Policy Act of 1969, 42 U.S.C. 4332(2)(C), the National Park Service announces the availability of the Record of Decision for the Final Environmental Impact Statement for the National Mall Plan, National Mall and Memorial Parks (Final EIS/Plan).

ADDRESSES: The Record of Decision, Final EIS/Plan, and other information are available for public review in the Office of the Superintendent, National Mall and Memorial Parks, 900 Ohio Drive SW., Washington, DC 20024-2000. Copies are also posted online at http://www.nps.gov/nationalmallplan.

FOR FURTHER INFORMATION CONTACT: Superintendent, National Mall and Memorial Parks, 900 Ohio Drive SW., Washington, DC 20024-2000, or by telephone at (202) 245-4690.

SUPPLEMENTARY INFORMATION: The Record of Decision was signed at the Thomas Jefferson Memorial in Washington, DC on November 9, 2010, by Secretary of the Interior Ken Salazar; Assistant Secretary for Fish, Wildlife and Parks Tom Strickland, and National Park Service Director Jon Jarvis. The Record of Decision was also signed by National Capital Regional Director Peggy O'Dell and Acting National Mall and Memorial Parks Superintendent Maria Burks. A Floodplain Statement of Findings was signed on September 30, 2010, and a Programmatic Agreement with the Advisory Council on Historic Preservation, the District of Columbia State Historic Preservation Office, and others was signed on November 8, 2010. All of these documents are posted online at http://www.nps.gov/nationalmallplan.

Other related material is also available at http://www.nps.gov/nationalmallplan—“A National Mall Plan: Summary,” “The National Mall Plan: 2010 General Implementation Priorities” list and related map, “The Draft Environmental Impact Statement and National Mall Plan,” newsletters, studies, public comment reports, maps, historic reports and background materials, and a number of related papers.

The National Mall in Washington, DC is managed by the National Park Service as part of the National Park System. Following direction by Congress, in November 2006, the National Park Service announced an intensive planning effort to refurbish the National Mall so that (1) Its treasured memorials and historic landscapes could be preserved, (2) very high levels of use could be sustained, and (3) the needs of visitors could be met. This effort recognized that the National Mall was not designed for the types and levels of use it currently receives—nearly 25 million visits annually, including demonstrations, national celebrations, and permitted events. This high level of visitation has resulted in adverse impacts on the cultural and natural resources of the National Mall. Adequate facilities are lacking for large gatherings, events, exhibitions, and celebrations; for tourism and general visitation; for group visitation; for visitors with disabilities; and for recreational opportunities. This has had adverse impacts on visitor experiences and park operations.

The scope of the Final Plan/EIS encompasses three specific locations collectively referred to as the National Mall, in Washington, DC.

• The Mall, which extends from the grounds of the United States Capitol to the Washington Monument and includes Union Square.

• The Washington Monument and its grounds.

• West Potomac Park, including the Lincoln Memorial, the World War II Memorial, the Vietnam Veterans Memorial, the Franklin Delano Roosevelt Memorial, the Tidal Basin, and the Thomas Jefferson Memorial.

The Record of Decision identifies the preferred alternative, as described in the Final EIS/Plan, as the selected action for implementation. The preferred alternative articulates a vision to protect and refurbish the National Mall so that it can better fulfill its function as our American symbol and civic space for our democracy, and so that high levels of use can be sustained, resources protected, and visitor needs met.

The National Park Service's proposed course of action is to reinforce the overall identity of the National Mall and to establish a sense of place through enduring and compatible high-quality design, as well as through the highest standards of facility maintenance. The National Mall will be respectfully rehabilitated and refurbished, with improvements made to the pedestrian environment, so that very high levels of use can be accommodated and so that the needs of all visitors can be met in an attractive, high-quality, energy-efficient, and sustainable manner. As the preeminent civic stage for our country, First Amendment demonstrations, commemorations, national ceremonies and celebrations will be better accommodated. Memorials and landscapes will be protected and the large areas of open space that are defining features of the designed historic landscape will be better maintained.

The landscape will evolve to accommodate contemporary uses while respecting the planned historic character and visions of the L'Enfant and McMillan plans. The National Mall will be emphasized as a year-round destination where the beauty and variety of every season will enhance visitor experiences. Diverse opportunities will be available for visitors and will include educational, cultural, and musical programs, as well as active and passive recreational activities. The National Park Service will continue to manage the National Mall pursuant to the applicable laws, regulations, and policies for these natural, cultural, and historic resources. Taken as a whole, the selected action is also the environmentally preferred alternative because it best meets all six goals of the National Environmental Policy Act (NEPA). It was developed by combining the advantages of the other alternatives, and resource conditions will be greatly improved to help achieve the paramount goal of enriching and providing a quality American experience for all. The selected action will address high levels of use and improve conditions.

The decision is based on:

• Considerations of public use;

• Civic, ceremonial and commemorative functions;

• Park operational efficiency;

• Analyses of environmental impacts on cultural and natural resources;

• Demonstrations;

• Special events;

• National celebrations;

• Access and circulation;

• Visitor experience;

• Socioeconomic environment; and

• Park operations.

Planning started with a National Park Service-hosted national symposium on future use and management of the National Mall and featured nationally-recognized experts in architecture, freedom of speech, First Amendment rights, landscape architecture, history, law enforcement, planning, and government. Substantial public involvement was integral to the process for developing the plan and resulted in more than 30,000 public comments, as well as close collaboration with 21 governmental agencies and 30 organizations with an interest in the National Mall and/or historic preservation.

The Final EIS/Plan will serve as the foundation for subsequent implementation plans. Among decisions made in the Final EIS/Plan, the identification of locations capable of better accommodating use within a designed historic landscape is significant.

The National Park Service investigated means to avoid or minimize environmental impacts as a result of the plan and its projects. The National Park Service had studies, and assessments prepared at the beginning of the planning process, both for public information and as background for the National Park Service planning team. The National Park Service also worked with the U.S. Environmental Protection Agency and consultants to learn about best practices for solid waste and recycling programs. The results of this extensive background analysis were incorporated into the alternatives, including the preferred alternative. The National Park Service will continue to take all practical measures to avoid environmental harm and harm to related cultural and historic resources through compliance with statutes such as the NEPA and the National Historic Preservation Act, which provide for analyses and consultation. The National Park Service will continue to work with the U.S. Army Corps of Engineers on projects related to the Potomac River, the Tidal Basin, and the Potomac Park levee, and as appropriate with other organizations, agencies, and commissions including the Advisory Council on Historic Preservation, the District of Columbia State Historic Preservation Office, the U.S. Fish and Wildlife Service, the U.S. Commission of Fine Arts, and the National Capital Planning Commission.

The Record of Decision contains:

• A summary of the selected alternative;

• Mitigation measures developed to minimize environmental harm;

• The four other alternatives considered (including a no-action alternative);

• The basis for the decision in terms of planning objectives and the criteria used to develop the preferred alternative;

• The finding of no impairment of park resources and values;

• The environmentally preferred alternative; and

• The public and agency involvement.

Dated: September 28, 2010.
Stephen E. Whitesell,
Regional Director, National Capital Region.

[FR Doc. 2011-27891 Filed 10-27-11; 8:45 am]

BILLING CODE 4312-39-P